DEPARTMENT OF THE INTERIOR

Fish and Wildlife Service

Multistate Conservation Grant Program; Priority List for Conservation Projects.

AGENCY: Fish and Wildlife Service, Interior.

ACTION: Notice of receipt of priority list.

SUMMARY: We, the U.S. Fish and Wildlife Service, are publishing, in this document, the priority list submitted by the International Association of Fish and Wildlife Agencies for the Multistate Conservation Grant Program. This notice is required by the Wildlife and Sport Fish Restoration Programs Improvement Act of 2000. Grants may be made from this priority list.

FOR FURTHER INFORMATION CONTACT: Chris McKay, National Grants Manager, Division of Federal Aid, U.S. Fish and Wildlife Service, 4401 North Fairfax Drive, Mail Stop MBSP-4020, Arlington, Virginia 22203; phone (703) 358-2156; or e-mail chris_mckay@fws.gov.

SUPPLEMENTARY INFORMATION: The Wildlife and Sport Fish Restoration Programs Improvement Act of 2000 (Pub. L. 106-408) (Improvement Act) established a Multistate Conservation Grant Program within the Federal Aid in Wildlife Restoration Act (16 U.S.C. 669-669k) and Federal Aid in Sport Fish Restoration Act (16 U.S.C. 777-777m) (Restoration Acts). The Improvement Act authorizes grants of up to $3 million annually from funds available under each of the Restoration Acts, for a total of up to $6 million annually. Grants may be made from a priority list of projects submitted by the International Association of Fish and Wildlife Agencies (IAFWA), which represent the State fish and wildlife agencies. The Service Director, exercising the authority of the Secretary, need not fund all recommended projects, but may not fund projects that are not recommended.

To be eligible for consideration by the IAFWA, a project must benefit fish and/or wildlife conservation in at least 26 States, a majority of the States in a Fish and Wildlife Service Region, or a regional association of State fish and wildlife agencies. Grants may be made to a State or group of States, to non-governmental organizations, and, for the purpose of carrying out the National Survey of Fishing, Hunting and Wildlife-Associated Recreation, the U.S. Fish and Wildlife Service.

The priority list of projects submitted by the IAFWA follows:

Project title | Applicant | Wildlife funds (in dollars) | Sport fish funds (in dollars)
Wildlife Values in the West | Western Association of Fish & Wildlife Agencies (WAFWA) | 223,961 | 223,961
Step Outside | National Shooting Sports Foundation | 92,600 | 92,600
Becoming an Outdoors Woman | University of Wisconsin—Stevens Point | 93,050 | 93,050
Women in the Outdoors | National Wild Turkey Federation | 77,500 | 77,500
The Trailblazer Adventure Program | U.S. Sportsmen's Alliance Foundation | 80,000 | 80,000
Automated Wildlife Data Systems Program Coordination | IAFWA Automated Wildlife Data Systems Task Force | 81,840 | 81,840
Provide Adaptive Equipment to State Fish & Game Departments to Assist Physically Challenged Individuals in Traditional Outdoor Activities | Paralyzed Veterans of America | 44,000
Measuring Public Opinion of Fish and Wildlife Agencies in 13 Northeast States | Northeast Conservation Information & Education Association | 175,000 | 175,000
Continued Support for State “Hooked on Fishing—Not on Drugs” Programs | Future Fisherman Foundation |  | 51,500
“The Northern Bobwhite Conservation Initiative: Moving the Plan Forward” | Tennessee Wildlife Resources Agency | 225,000
Chronic Wasting Disease Prevention and Management Planning | IAFWA Wildlife Health Task Force | 357,500
Fish & Wildlife Reference Service: Managing and Providing Information to State Wildlife and Natural Resources Agencies | KRA Corporation | 249,779 | 249,779
* Evaluation of the Fish and Wildlife Reference Service | Virginia Polytechnic Institute & State University | 20,356 | 20,356
Data Management Support for the Chronic Wasting Disease Initiative | Virginia Polytechnic Institute & State University | 92,154
Unwanted Aquatic Species: A Two-Year Project to Address State, Regional and National Aquatic Invasive Species Issues | IAFWA Fisheries & Water Resources Policy Committee |  | 391,840
Conservation Communication Team | IAFWA Education, Outreach & Diversity Committee and Point to Point Communications | 114,000 | 114,000
National 4-H Sportfishing Initiative | National 4-H Sportfishing Committee of the Texas 4-H Youth Development Foundation |  | 150,623
Creating Master Naturalist programs | Texas Parks & Wildlife Department | 97,325 | 97,325
National Housing Incident Clearinghouse | International Hunter Education Association | 66,800
Wildlife Law News Weekly Alert and Online Services | Center for Wildlife Law at the University of New Mexico Institute of Public Law | 40,500 | 40,500
Management Assistance Team | IAFWA | 408,272 | 408,272
Sage Grouse Data Management: Making States' Data Available to Conservation Planning Teams | WAFWA Sage Grouse and Columbian Sharp-tailed Grouse Technical Committee | 27,800
Bird Conservation for the Nation: Support for State All-Bird Conservation Efforts | IAFWA Bird Conservation Committee | 214,520
Assessing Ownership, Use and Modifications of Trapping Systems, and Familiarity of Trapping BMPs by Trappers in the United States | IAFWA Furbearer Resources Task Force; Education, Outreach & Diversity Committee; and Wildlife Resources Policy Committee | 118,800
Development of a Detailed National Conservation Need for a National Fishing, Hunting, and Wildlife-Associated Recreation Survey | IAFWA National Grants Committee | 125,000 | 125,000
Totals |  | 3,025,757 | 2,473,146
* Denotes project submitted pending a final decision of the IAFWA Executive Committee, which is expected December 13, 2002.

The total cost of the proposed Wildlife Restoration projects is more than the amount allocated by Congress for this program. If we were to fund all of these projects, funds allocated, but not spent, from Fiscal Year (FY) 2002 would be used to make up the difference for FY 2003. The rest of the funding would come from FY 2004 and FY 2005 allocations because six of these projects are multi-year projects.

We expect to decide by January 10, 2003, which of the listed projects will be awarded a FY 2003 Multistate Conservation Grant. We will also publish the list of the awards in the Federal Register immediately afterwards.

Dated: November 27, 2002.
Steve Williams,
Director.

[FR Doc. 03-565 Filed 1-10-03; 8:45 am]

BILLING CODE 4310-55-M